DEPARTMENT OF COMMERCE

National Oceanic and Atmospheric Administration

[I.D. 091503B]

Proposed Information Collection; Comment Request; Foreign Fishing Vessels Operating in Internal Waters.

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before November 17, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Robert Dickinson at 301-713-2276, ext. 154, or at Bob.Dickinson@noaa.gov.

SUPPLEMENTARY INFORMATION: SUPPLEMENTARY INFORMATION:

I. Abstract

Foreign fishing vessels engaged in processing and support of U.S. fishing vessels within the internal waters of a state, in compliance with the terms and conditions set by the authorizing governor, are required to report the tonnage and location of fish received from U.S. vessels. This reporting is required by the Magnuson-Stevens Fishery Conservation and Management Act. Weekly reports are submitted to the NMFS Regional Administrator to allow monitoring of the quantity of fish received by foreign vessels.

II. Method of Collection

Reports may be submitted by fax, e-mail, or regular mail.

III. Data

OMB Number: 0648-0329.

Form Number: None.

Type of Review: Regular submission.

Affected Public: Business or other for-profit organizations.

Estimated Number of Respondents: 6.

Estimated Time Per Response: 30 minutes per weekly report.

Estimated Total Annual Burden Hours: 36.

Estimated Total Annual Cost to Public: $144.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 12, 2003.
Gwellnar Banks,
Management Analyst, Office of the Chief Information Officer.

[FR Doc. 03-23864 Filed 9-17-03; 8:45 am]

BILLING CODE 3510-22-S